DEPARTMENT OF COMMERCE

Foreign-Trade Zones Board

[Order No.1434]

Removal of Zone-Restricted Merchandise, Foreign-Trade Zone 89, Las Vegas, Nevada

Pursuant to its authority under the Foreign-Trade Zones Act of June 18, 1934, as amended (19 U.S.C. 81a-81u), the Foreign-Trade Zones Board adopts the following Order:

Whereas, the Nevada Development Authority, grantee of Foreign-Trade Zone 89, submitted an application to the Board for authority to remove certain zone-restricted merchandise (carpets from Iran - HTS 5701.01) from FTZ 89, Las Vegas, Nevada, to the United States Customs territory (FTZ Docket 39-2005; filed 08/05/05);

Whereas, notice inviting public comment was given in the Federal Register (70 FR 48534, 8/18/05), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to remove certain zone-restricted merchandise (carpets from Iran - HTS 5701.01) from FTZ 89 to U.S. Customs territory is approved, subject to the Act and the Board's regulations. The merchandise shall be treated as foreign merchandise and is subject to all entry requirements based on its original country of origin, including the payment of duties and applicable taxes.

Signed at Washington, DC, this 26th day of January 2006.

David M. Spooner,
Assistant Secretary of Commerce for Import Administration, Alternate Chairman, Foreign-Trade Zones Board.
Attest:
Dennis Puccinelli,
Executive Secretary.

[FR Doc. E6-1631 Filed 2-6-06; 8:45 am]

BILLING CODE 3510-DS-S